NUCLEAR REGULATORY COMMISSION

[NRC-2018-0219]

Performance Review Boards for Senior Executive Service; Revision

AGENCY: Nuclear Regulatory Commission.

ACTION: Appointments; revision.

SUMMARY: On October 19, 2018, the U.S. Nuclear Regulatory Commission (NRC) announced appointments to the NRC Performance Review Board (PRB) responsible for making recommendations on performance appraisal ratings and performance awards for NRC Senior Executives and Senior Level System employees and appointments to the NRC PRB Panel responsible for making recommendations to the appointing and awarding authorities for NRC PRB members. Since then, the NRC has made revisions to the list of PRB member appointees.

DATES: November 30, 2018.

ADDRESSES: Please refer to Docket ID NRC-2018-0219 when contacting the NRC about the availability of information regarding this document. You may obtain publicly-available information related to this document using any of the following methods:

• Federal Rulemaking website: Go to http://www.regulations.gov and search for Docket ID NRC-2018-0219. Address questions about Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Miriam L. Cohen, Executive Resources Board, U.S. Nuclear Regulatory Commission, Washington, DC 20555-0001; telephone: 301-287-0747, email: Miriam.Cohen@nrc.gov.

SUPPLEMENTARY INFORMATION: On October 19, 2018 (83 FR 53118), the NRC announced appointments to the NRC PRB membership. The following revision has been made to the list of NRC PRB members. Catherine A. Haney, Regional Administrator, Region II, will replace Frederick D. Brown, Director, Office of New Reactors. The revised list of NRC PRB members that are responsible for making recommendations to the appointing and awarding authorities on performance appraisal ratings and performance awards for Senior Executives and Senior Level System employees read as follows:

Margaret M. Doane, Executive Director for Operations;

Marian L. Zobler, General Counsel;

Daniel H. Dorman, Deputy Executive Director for Materials, Waste, Research, State, Tribal, Compliance, Administration, and Human Capital Programs, Office of the Executive Director for Operations;

Michael R. Johnson, Deputy Executive Director for Reactor and Preparedness Programs, Office of the Executive Director for Operations;

Marc L. Dapas, Director, Office of Nuclear Material Safety and Safeguards;

Catherine A. Haney, Regional Administrator, Region II;

Brian E. Holian, Director, Office of Nuclear Security and Incident Response;

Nader L. Mamish, Director, Office of International Programs;

Mary C. Muessle, Director, Office of Administration;

K. Steven West, Regional Administrator, Region III; and

Maureen E. Wylie, Chief Financial Officer.

The following individuals will serve as members of the NRC PRB Panel that was established to review appraisals and make recommendations to the appointing and awarding authorities for NRC PRB members:

Anne T. Boland, Director, Office of Enforcement;

Brooke P. Clark, Deputy General Counsel for Hearings and Administration; and

Andrea D. Veil, Executive Director, Advisory Committee on Reactor Safeguards.

All appointments are made pursuant to Section 4314 of Chapter 43 of Title 5 of the United States Code.

Dated at Rockville, Maryland, on November 20, 2018.
For the Nuclear Regulatory Commission.
Miriam L. Cohen,
Secretary, Executive Resources Board.

[FR Doc. 2018-26018 Filed 11-29-18; 8:45 am]

BILLING CODE 7590-01-P